DEPARTMENT OF THE INTERIOR

Fish and Wildlife Service

[FWS-R7-FHC-2010-N246; 71490-1351-0000-L5]

Information Collection Sent to the Office of Management and Budget (OMB) for Approval; OMB Control No. 1018-0070; Incidental Take of Marine Mammals During Specified Activities

AGENCY: Fish and Wildlife Service, Interior.

ACTION: Notice; request for comments.

SUMMARY: We (U.S Fish and Wildlife Service) have sent an Information Collection Request (ICR) to OMB for review and approval. We summarize the ICR below and describe the nature of the collection and the estimated burden and cost. This ICR is scheduled to expire on November 30, 2010. We may not conduct or sponsor and a person is not required to respond to a collection of information unless it displays a currently valid OMB control number. However, under OMB regulations, we may continue to conduct or sponsor this information collection while it is pending at OMB.

DATES: You must submit comments on or before December 3, 2010.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, U.S. Fish and Wildlife Service, MS 222-ARLSQ, 4401 North Fairfax Drive, Arlington, VA 22203 (mail), or hope_grey@fws.gov (e-mail).

FOR FURTHER INFORMATION CONTACT: To request additional information about this ICR, contact Hope Grey by mail or e-mail (see ADDRESSES) or by telephone at (703) 358-2482.

SUPPLEMENTARY INFORMATION: OMB Control Number: 1018-0070.

Title: Incidental Take of Marine Mammals During Specified Activities, 50 CFR 18.27 and 50 CFR 18, Subparts I and J.

Service Form Number: None.

Type of Request: Revision of a currently approved collection.

Description of Respondents: 20 oil and gas companies.

Respondent's Obligation: Required to obtain or retain a benefit.

Frequency of Collection: On occasion.

Activity | Number of annual responses | Completion time per response (hours) | Total annual burden hours
Application for procedural regulations ¹ | 2 | 100 | 200
LOA Requests | 25 | 24 | 600
Onsite Monitoring and Observation Reports | 300 | 1.5 | 450
Final Monitoring Report | 25 | 10 | 250
TOTALS | 352 |  | 1,500
¹ Occurs once every 5 years.

Abstract: This revised information collection combines requirements associated with specified marine mammal activities in the Beaufort and Chukchi Seas. The Office of Management and Budget approved the information collection requirements associated with oil and gas exploration activities in the Chukchi Sea and assigned OMB Control No. 1018-0139, which expires June 30, 2011. If OMB approves this combined request, we will discontinue OMB Control No. 1018-0139.

The Marine Mammal Protection Act (MMPA) of 1972, as amended (16 U.S.C. 1361 et seq.) imposed, with certain exceptions, a moratorium on the taking of marine mammals. Section 101(a)(5)(A) of the MMPA directs the Secretary of the Interior to allow, upon request by citizens of the United States, the taking of small numbers of marine mammals incidental to specified activities (other than commercial fishing) if the Secretary makes certain findings and prescribes specific regulations that, among other things, establish permissible methods of taking.

Applicants seeking to conduct activities must request a Letter of Authorization (LOA) for the specific activity and submit onsite monitoring reports and a final report of the activity to the Secretary. This is a nonform collection. Regulations at 50 CFR 18.27 outline the procedures and requirements for submitting a request. Specific regulations governing authorized activities in the Beaufort Sea are in 50 CFR 18, subpart J. Regulations governing authorized activities in the Chukchi Sea are in 50 CFR 18, subpart I. These regulations provide the applicant with a detailed description of information that we need to evaluate the proposed activity and determine whether or not to issue specific regulations and, subsequently, LOAs.

We use the information to verify the finding required to issue incidental take regulations, to decide if we should issue an LOA, and, if issued, what conditions should be in the LOA. In addition, we will analyze the information to determine impacts to the marine mammals and the availability of those marine mammals for subsistence purposes of Alaska Natives.

Comments: On July 20, 2010, we published in the Federal Register (75 FR 42118) a notice of our intent to request that OMB approve this information collection. In that notice, we solicited comments for 60 days, ending on September 20, 2010. We received one comment. The commenter expressed opposition to authorization of activities for the oil and gas industry. We note the concerns raised by this individual; however, we do not grant authorization for industry activities. Instead, we are required under Section 101(a)(5)(A) of the MMPA to take certain actions with regard to the “incidental taking” of marine mammals that may result from specified activities. The regulations at 50 CFR 18.27(c) define incidental, but not intentional, taking as “takings which are infrequent, unavoidable, or accidental. It does not mean that the taking must be unexpected.” The commenter did not address the information collection requirements, and we did not make any changes to our information collection.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: October 28, 2010.
Hope Grey,
Information Collection Clearance Officer, Fish and Wildlife Service.

.

[FR Doc. 2010-27694 Filed 11-2-10; 8:45 am]

BILLING CODE 4310-55-P